DEPARTMENT OF COMMERCE

National Oceanic and Atmospheric Administration

RIN 0648-XF387

Gulf of Mexico Fishery Management Council; Public Meeting

AGENCY: National Marine Fisheries Service (NMFS), National Oceanic and Atmospheric Administration (NOAA), Commerce.

ACTION: Notice of a public meeting via webinar.

SUMMARY: The Gulf of Mexico Fishery Management Council will hold a half day meeting of its Standing and Reef Fish Scientific and Statistical Committees (SSC).

DATES: The meeting will convene on Wednesday, May 10, 2017, 1 p.m.-4 p.m., EDT.

ADDRESSES: The meeting will be held via webinar.

Council address: Gulf of Mexico Fishery Management Council, 2203 N. Lois Avenue, Suite 1100, Tampa, FL 33607; telephone: (813) 348-1630.

FOR FURTHER INFORMATION CONTACT: Steven Atran, Senior Fishery Biologist, Gulf of Mexico Fishery Management Council; steven.atran@gulfcouncil.org; telephone: (813) 348-1630.

SUPPLEMENTARY INFORMATION:

Wednesday, May 10, 2017; 1 p.m.-4 p.m.

1. Introductions and Adoption of Agenda

2. Vermilion Snapper OFL and ABC Projections Under a 26% SPR MSY Proxy

3. Review of Draft Underharvest Carry-over Options

4. Status Determination Criteria Options Paper

5. Other Business

Meeting Adjourns—

You may register for the SSC Meeting: Standing and Reef Fish on or before May 10, 2017 at: https://attendee.gotowebinar.com/register/6351571192497709313.

The Agenda is subject to change. The latest version along with other meeting materials will be posted on the Council's file server. To access the file server, the URL is https://public.gulfcouncil.org:5001/webman/index.cgi, or go to the Council's Web site and click on the FTP link in the lower left of the Council Web site (http://www.gulfcouncil.org). The username and password are both “gulfguest”. Click on the “Library Folder”, then scroll down to “SSC meeting-2017-05”.

Although other non-emergency issues not on the agenda may come before the Scientific and Statistical Committee for discussion, in accordance with the Magnuson-Stevens Fishery Conservation and Management Act, those issues may not be the subject of formal action during this meeting. Actions of the Scientific and Statistical Committee will be restricted to those issues specifically identified in the agenda and any issues arising after publication of this notice that require emergency action under Section 305(c) of the Magnuson-Stevens Fishery Conservation and Management Act, provided the public has been notified of the Council's intent to take action to address the emergency.

Dated: May 3, 2017.
Tracey L. Thompson,
Acting Deputy Director, Office of Sustainable Fisheries, National Marine Fisheries Service.

[FR Doc. 2017-09215 Filed 5-5-17; 8:45 am]

BILLING CODE 3510-22-P